DEPARTMENT OF HEALTH AND HUMAN SERVICES

Centers for Disease Control and Prevention

[Program Announcement 03007]

Childhood Lead Poisoning Prevention Programs (CLPPP); Notice of Availability of Funds

A. Authority and Catalog of Federal Domestic Assistance Number

This program is authorized under sections 301(a), 317A and 317B of the Public Health Service Act [42 U.S.C. 241(a), 247b-1, and 247b-3], as amended by the Children's Health Act of 2000. Program regulations are set forth in Title 42, Code of Federal Regulations, Part 51b to State and local health departments. The Catalog of Federal Domestic Assistance number is 93.197.

B. Purpose

The Centers for Disease Control and Prevention (CDC) announces the availability of fiscal year (FY) 2003 funds for a cooperative agreement program for Childhood Lead Poisoning Prevention Programs (CLPPP). This program addresses the “Healthy People 2010” environmental health objective to eliminate elevated blood lead levels in children. (found at: http://www.health.gov/healthypeople/)

The purpose of the program is to assist state and local partners in building capacity to eliminate childhood lead poisoning as a major public health problem. The focus of the program is children under the age of six. Special emphasis will be placed on children under the age of 3 who have elevated blood lead levels. The program will also address families with children under the age of six who do not yet have elevated blood lead levels.

Measurable outcomes of the program will be in alignment with the following performance goal of the National Center for Environmental Health (NCEH): reduce the burden of lead poisoning in children.

A glossary of scientific and technical terms can be found in Appendix I. A background statement about the CDC program can be found in Appendix II. All appendices and attachments are posted with this announcement on the CDC Web site.

C. Eligible Applicants

Applications may be submitted by state health departments, their bona fide agents, and the health departments of the following five local jurisdictions that have the highest estimated number of children with elevated blood lead levels: New York, NY; Chicago, IL; Detroit, MI; Los Angeles County, CA, and Philadelphia, PA, or their bona fide agents. (See Appendices III and IV for more information on city blood lead levels.) Applications may also be submitted by the health departments or other official organizational authorities of the District of Columbia, the Commonwealth of Puerto Rico, the Virgin Islands, the Commonwealth of the Northern Mariana Islands, American Samoa, Guam, the Federated States of Micronesia, the Republic of the Marshall Islands, the Republic of Palau, and federally recognized Indian tribal governments. Competition is limited to these entities by authorizing legislation.

Note: Title 2 of the United States Code section 1611 states that an organization described in section 501c(4) of the Internal Revenue Code that engages in lobbying activities is not eligible to receive Federal funds constituting an award, grant or loan.

D. Funding

Availability of Funds

Approximately $31,000,000 is available in FY 2003 to fund approximately 40 awards. It is expected that the average award will be $775,000, ranging from $75,000 to $1,700,000. It is expected that the awards will begin on or about July 1, 2003 and will be made for a 12-month budget period within a project period of up to three years. Funding estimates may change, depending on availability of funds.

Continuation awards within an approved project period will be made on the basis of satisfactory progress as evidenced by required reports and the availability of funds.

Use of Funds

Funds must be used for the following program activities: (a) The writing, implementation and evaluation of a jurisdiction-wide childhood lead poisoning elimination plan; (b) the writing, implementation, and evaluation of screening plans to target resources to children at the highest risk for lead poisoning; (c) a jurisdiction-wide childhood lead surveillance program, with an analysis plan for collected data; (d) primary prevention activities for pregnant women and/or families with children at high risk for lead poisoning; (e) an assurance plan for timely and appropriate case management of children with elevated blood lead levels; (f) demonstration of strategic partnering with community organizations and with other state/local agencies involved in environmental and child health activities; (g) substantial coordination with organizations and agencies involved in lead-based paint hazard reduction activities and development of protective policy; and (h) evaluation of programmatic impact on childhood lead poisoning within the applicant's jurisdiction.

Funds may not be expended for medical care and treatment, or for environmental remediation of sources of lead exposure. However, the applicant must provide a plan to ensure that these program activities are carried out and demonstrate their program's appropriate involvement with medical care, treatment and remediation efforts.

Not more than 10 percent (exclusive of direct assistance) of any cooperative agreement or contract (sub-grantee or consultant) funded through the cooperative agreement may be obligated for administrative costs. This 10 percent limitation is in lieu of, and replaces, the indirect cost rate.

Recipient Financial Participation

Matching funds are not required for this program. Applicant must assure that income earned by the CLPPP will be returned to the program to support lead poisoning prevention activities.

Funding Preference

CDC will give funding preference to state programs that have significant estimated numbers of children with elevated blood lead levels, and that direct federal funds to localities with high concentrations of children at risk for childhood lead poisoning. CDC will also give funding preference to the five local jurisdictions with the highest estimated number of children with elevated blood lead levels. Guidance is available in Appendices III and IV, CDC's estimate of children under age six with elevated blood lead levels by city and state, respectively.

E. Program Requirements

In conducting activities to achieve the purpose of this program, the recipient will be responsible for the activities in 1. Recipient Activities, and CDC will be responsible for the activities listed in 2. CDC Activities.

1. Recipient Activities

a. Childhood Lead Poisoning Elimination Plan

• Programs must establish an advisory workgroup or committee (or expand the scope of its current advisory group) to publish and implement a statewide or jurisdiction-wide childhood lead poisoning elimination plan. The group should also serve to monitor the progress of the elimination plan, and to leverage resources and enhance cooperative efforts towards this goal.

—This committee/workgroup should, at a minimum, include representatives from the Health Department, Housing and Urban Development (HUD) and/or the housing department, Environmental Protection Agency (EPA) and/or the state or local environmental regulatory agency, and the state Medicaid agency.

—Member representatives should have sufficient authority to support an inter-agency committee/workgroup, and to commit staff and resources to the elimination work plan.

—By the end of year one, programs must write a statewide or jurisdiction-wide strategic plan to eliminate childhood lead poisoning as a major public health problem by 2010. At a minimum, the plan must include the following elements:

Mission Statement

Purpose and Background on Lead Poisoning Prevalence

Goals, Objectives and Activities

Evaluation Plan

Further guidance on developing the elimination plan and forming the advisory workgroup or committee is located in Appendix V, “Guidance for Developing a Jurisdiction-wide Strategic Plan for the Elimination of Childhood Lead Poisoning.”

b. Targeted Screening Plan

• Programs will write, implement and evaluate a jurisdiction-wide screening plan to target resources to impact the largest numbers of children at high risk for lead poisoning. Particular emphasis should be placed on children under three years of age and at high risk. Applicants should refer to the CDC publication, “Screening Young Children for Lead Poisoning: Guidance for State and Local Public Health Officials” (found at: http://www.cdc.gov/nceh/lead/guide/guide97.htm) and to Appendices III and IV, the CDC estimates of children under six with elevated blood lead levels by city and state.

• Programs with an approved jurisdiction-wide screening plan already in place should include a copy as an appendix to their application. Application work plans must include goals and objectives describing screening performance measures and plans for periodic evaluation and improvement of the screening plan.

• Programs without a screening plan will provide work plan objectives for publishing and implementing a screening plan within one year of award.

• The screening plan should address uses of health education and communication to the targeted screening population. Additionally, the screening plan should address the education and communication of screening recommendations and childhood lead poisoning prevention efforts to health care providers.

• The screening plan will be reviewed and updated at least annually, and resubmitted to the assigned CDC Project Officer for review and comment.

c. Surveillance

• Programs must maintain and/or enhance a statewide or jurisdiction-wide childhood lead surveillance system to meet the criteria in Appendix VI (Elements Of Developing And Maintaining A Surveillance System). If programs do not have an existing surveillance system that meets these criteria, the application work plan should include objectives demonstrating how the surveillance system will be designed and implemented to meet the criteria within the first year of the project period. The program should also describe the implementation, or planned implementation, of regulations within the state or jurisdiction requiring the reporting of all blood lead results for children less than 72 months of age.

d. Primary Prevention

• Programs must conduct childhood lead poisoning primary prevention activities for families at high risk for lead poisoning to include those who live in housing built prior to 1978. The program should focus activities on pregnant women and/or families with young children at high-risk for lead poisoning exposure. The program should consider, but is not limited to, the examples of primary prevention activities in Appendix VII.

• Educational material and media campaigns may be used to support primary prevention activities.

• Primary prevention activities must be regularly evaluated for effectiveness in reducing the childhood lead burden in higher risk communities and/or populations. Evaluation of primary prevention activities should not include human subjects research.

e. Case Management of Children With Elevated Blood Lead Levels

• Provide a written case management plan consistent with published state and local guidelines, or the recommendations from the National Advisory Committee on Childhood Lead Poisoning Prevention, “Managing Elevated Blood Lead Levels Among Young Children”, (found at: http://cdc.gov/nceh/lead/CaseManagement/caseManage_main.htm), within the first six months of the project period.

• Establish specific application work plan goals and objectives for reducing over-all morbidity (in children identified with elevated blood lead levels) by tracking and assuring appropriate and timely coordination of case management activities in accordance with established protocols.

• Implement targeted health education and communication activities to support improvements in timely and appropriate care.

• Case management will be evaluated at least quarterly using surveillance and case management data. At a minimum, the program should review the time frames for (a) initiating and completing case management services, including the first home visit; (b) a written care plan for each case; (c) the reduction of blood lead level rates; and (d) the rates of case closure by category (e.g., medical or administrative closure.)

f. Strategic Partnerships

• The program should demonstrate the development of strategic partnerships with community organizations, health-care providers, and other governmental and non-governmental organizations conducting childhood lead poisoning prevention activities and/or developing protective policies, as well as other programs focused on children likely to be at high risk for lead poisoning (e.g., Women, Infant and Children Program (WIC), Immunizations, Asthma Control, Head Start and Healthy Start).

• Strategic partnerships should be demonstrated by the inclusion of letters of support, memoranda of understanding, and/or contracts in the application.

• Guidance for working with and within communities can be found in the CDC document, “Principles of Community Engagement” (found at: http://www.cdc.gov/phppo/pce/index.htm).

g. Activities With Organizations and Agencies Engaged in Lead Hazard Reduction and Development of Protective Policy

• The applicant should demonstrate coordination of, or plans to coordinate activities with those organizations engaged in lead remediation and abatement (e.g., housing agencies, HUD funded lead hazard reduction grantees, and banking, real estate, and insurance interests).

• Planned or ongoing activities should include the education and communication of childhood lead poisoning prevention efforts and protective policies to target audiences (e.g., landlords, homeowners, legislative officials).

• Planned or ongoing coordination activities should be demonstrated by the inclusion of letters of support, memoranda of understanding, and/or contracts in the application.

h. Evaluation Plan

The evaluation plan should address the effectiveness of the CLPPP by program area, as well as the overall impact of the program in reducing and preventing childhood lead poisoning within the jurisdiction. Evaluation should take place at least annually.

The evaluation plan should: (1) Address the program as a whole; (2) specifically address each program goal; (3) have measurable, achievable and time-phased objectives; (4) focus on programmatic outcome/impact on eliminating childhood lead poisoning as a public health problem; (5) include the name and qualifications of the person responsible for conducting the evaluation; (6) specify how often evaluation will be conducted; and (7) discuss how the results of the evaluation will be built into improving each of the program components.

The same terms and definitions used for the work plan should be used in the evaluation plan (see Appendix VIII).

Guidance related to the components of an effective evaluation plan can be found in the CDC document “Framework for Program Evaluation in Public Health” (found at: http://www.cdc.gov/eval/framework.htm). Additional guidance can be found at the “CDC Evaluation Working Group Web Site” (http://www.cdc.gov/eval/).

The program should specify whether or not identifiable information will be included in evaluation-related analysis. Use of identifiable information may require Institutional Review Board (IRB) approval.

2. CDC Activities

a. Provide technical assistance and scientific consultation on program development, implementation, and operational issues.

b. Provide technical assistance and scientific consultation regarding the development and implementation of all surveillance activities, including data collection methods and analysis of data. Assist with improving data linkages with federally funded, means-tested public benefit programs (WIC, Head Start, etc.)

c. Assist in the development of elimination plans and targeted screening plans by providing technical assistance and training on tools such as Geographic Information Systems (GIS) software.

d. Assist with interpretation of individual state surveillance data.

e. Review draft work plans and provide guidance.

f. Review draft program evaluation criteria and presentation formats, and provide guidance.

F. Content

Applications

The Program Announcement title and number must appear in the application. Use the information in the Program Requirements, Other Requirements, and Evaluation Criteria sections to develop the application content. Your application will be evaluated on the criteria listed, so it is important to follow them in laying out your program plan. The narrative should be no more than 35 pages, double-spaced, printed on one side, with one-inch margins, and unreduced 12-point font.

The narrative should consist of, at a minimum, a work plan, an evaluation plan, and budget. The work plan must include project goals and first year objectives for each of the program areas listed under Program Requirements, Recipient Activities in this announcement (paragraph E, 1., a.-h.), The applicant should also include a tentative work plan and timetable for the remaining years of the proposed project.

The applicant should provide a detailed work plan that describes how the overall CLPPP and each of the eight program areas described within the application will be conducted. See Appendix VIII (Work Plan) for guidance.

Pursuant to section 317A of the Public Health Service Act (42 U.S.C. 247b-1), as amended by Section 303 of the “Preventive Health Amendments of 1992” (Pub. L. 102-531), applicants must meet the following requirements: For CLPPP services that are Medicaid-reimbursable in the applicant's state:

• Applicants directly providing these services must be enrolled with their state Medicaid agency as a Medicaid provider.

• Providers entering into agreements with the applicant to provide such services must be enrolled with their State Medicaid agency as a Medicaid provider. An exception to this requirement will be made for providers whose services are provided free of charge, and who accept no reimbursement from any third-party payer. Providers accepting voluntary donations may still be exempted from this requirement.

To satisfy this program requirement, applicants must submit a copy of a Medicaid provider certificate or statement as proof that this requirement will be met. Failure to include this information will result in the application being returned. This information should be placed immediately behind the budget and budget justification pages.

G. Submission and Deadline

Application Forms

Submit the signed original and two copies of PHS 5161-1 (OMB Number 0920-0428). Forms are available at the following Internet address: http://www.cdc.gov/od/pgo/forminfo.htm.

If you do not have access to the internet, or if you have difficulty accessing the forms on-line, you may contact the CDC Procurement and Grants Office Technical Information Management Section (PGO-TIM) at (770) 488-2700. Application forms can be mailed to you.

Application forms must be submitted in the following order:

Cover Letter

Table of Contents

Application

Narrative with Work Plan and Evaluation Plan

Budget Information Form

Budget Justification

Medicaid Provider Certificate/Statement of Proof

Checklist

Assurances

Certifications

Disclosure Forms

Submission Date, Time, and Address

The application must be received by 4 p.m. Eastern Time, March 24, 2003. Submit the application to: Technical Information Management—PA#03007, Procurement and Grants Office, Centers for Disease Control and Prevention, 2920 Brandywine Road, Room 3000, Atlanta, GA 30341-4146.

Applications may not be submitted electronically.

CDC Acknowledgment of Application Receipt

A postcard will be mailed to you by PGO-TIM, notifying you that CDC has received your application.

Deadline

Applications shall be considered as meeting the deadline if they are received before 4 p.m. Eastern Time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will, upon receipt of proper documentation, consider the application as having been received by the deadline.

Any application that does not meet the above criteria will not be eligible for competition, and will be discarded. The applicant will be notified of their failure to meet submission requirements.

H. Evaluation Criteria

Application

Applicants are required to provide measures of effectiveness that will demonstrate the accomplishment of the various identified objectives of the cooperative agreement. Measures of effectiveness must relate to the performance goal stated in the purpose section of this announcement. Measures must be objective and quantitative and must measure the intended outcome. These measures of effectiveness must be submitted with the application and will be an element of evaluation.

An independent review group appointed by CDC will evaluate each application against the following criteria:

1. Need (25 points)

The announcement is focused on the elimination of childhood lead poisoning as a major public health problem. Therefore, the assessment of need within the applicant's jurisdiction should include focus on communities and populations where there is significant evidence of high numbers of children under six years old who are at high risk for lead poisoning. The applicant should describe the extent of the problem in the highest risk areas as determined by evidence. The evidence could include surveillance data for calendar years 1995-2000, detailing the number of children 0-36 months and 37-72 months with confirmed blood lead levels greater than or equal to 10 micrograms per deciliter (ug/dl) (using the CSTE definition of confirmed cases; see Appendix II.) The applicant may also consider other sources such as Appendices III and IV of this announcement (Estimated Number of children with Elevated Blood Lead Levels (EBLL) by City and State, respectively), Medicaid data, and housing-related data to support their description of need.

2. Capacity To Eliminate Childhood Lead Poisoning as a Public Health Problem (20 points)

• Provide evidence that the applicant has published and implemented a jurisdiction-wide screening plan that targets screening resources to children at highest risk. A copy of the plan should be included with the application. Or, describe plans to implement a screening plan in the first year of the proposed project period.

• The implementation, or planned implementation, of regulations within the state or jurisdiction requiring the reporting of all blood lead results for children under 72 months of age.

• The extent to which the applicant describes their jurisdictional childhood blood lead surveillance system in the following areas:

—Case management and program monitoring capabilities.

—The ability to determine screening and EBLL rates among specific high-risk populations, particularly Medicaid eligible children.

—The percentage of laboratory blood lead test results reported electronically to the state and/or local health department; and plans to increase the percentage of lab tests electronically imported to the surveillance database.

—Current or planned use of electronic transfer of data from laboratories, WIC, immunizations, birth certificates, and between local and state health departments.

—The ability to identify and assure reporting from private labs and portable blood lead analyzers.

—Plans for data analysis and dissemination of findings, as well as an evaluation of the surveillance system using CDC guidelines.

• Extent to which the applicant demonstrates use of surveillance data to target lead poisoning prevention activities (e.g., screening, environmental investigations, lead hazard reduction, primary prevention, and implementation of protective policies) to the populations at highest risk in their jurisdiction.

• Extent to which strategic partnerships, programs, and activities within the jurisdiction have been implemented to eliminate childhood lead poisoning from the community.

• Extent to which applicant has committed their resources (personnel and financial) to the elimination of childhood lead poisoning.

3. Goals and Objectives (20 points)

• Extent to which the goals relate to the project purpose of childhood lead poisoning elimination, screening, surveillance, primary prevention, case-management, strategic community partnerships, and activities coordinated with agencies involved in lead hazard reduction activities and policies.

• Objectives must be time-phased, achievable, measurable, and must be provided for the first budget year.

• The submission of a clearly written work plan that includes project goals; supporting first year objectives that are relevant, specific, measurable, achievable, and time-phased; activities leading to the completion of objectives; a timetable for completing the proposed activities; identification of the program staff responsible for accomplishing each objective; and process evaluation measures for each proposed objective.

• The inclusion of a tentative work plan and timetable for the remaining years of the proposed project.

4. Jurisdiction-Wide Planning and Collaboration (15 points)

• Applicant's ability to involve strategic partners in the publication and implementation of a targeted screening plan, the and implementation of strategies to eliminate childhood lead poisoning.

• Extent to which surveillance and program data are utilized to produce jurisdiction-wide screening recommendations, with specific attention given to the Medicaid population, as required in the Children's Health Act of 2000.

• Demonstrated strategic partnerships through letters of support, memoranda of understanding, contracts, or other documented evidence of relationships. Examples of key partners include Medicaid agencies, child health-care providers and provider groups, managed-care organizations, insurers, community-based organizations, housing agencies (especially HUD funded lead hazard reduction programs), and banking, real estate, and property-owner interests.

5. Program Evaluation (15 points)

• Description of a systematic assessment of the operations and outcomes of the program as a means of contributing to the elimination of childhood lead poisoning.

• Effective strategies and approaches to monitor and improve the quality, effectiveness, and efficiency of the program.

• Description of how evaluation findings will be used to assess changes in public policy and measure the program's effectiveness of strategic partnering activities.

• Description of how the program will document progress made in childhood lead poisoning prevention.

6. Project Management and Staff (5 points)

• Documentation of the ability to develop and carry out activities described as recipient activities in the program requirements section of this announcement. This should include a description of the proposed health department staff roles, their specific responsibilities, and their level of effort and time.

• Inclusion of assurances that vacant positions will be filled within a reasonable time after receiving funding.

• Inclusion of a plan to provide training and technical assistance to health department personnel and consultation to strategic partners.

7. Budget Justification (reviewed, not scored)

The extent to which the budget is reasonable, clearly justified, and consistent with the intended use of funds. The applicant should include costs for up to two people to travel to Atlanta, GA (three-overnight stays), to attend a Program Partners' meeting in 2003, and for one person to travel to Atlanta, GA (three-overnight stays), to attend the 6th National Environmental Health Conference December 3-5, 2003.

8. Performance Goals (reviewed, not scored)

The extent to which the application is aligned with the NCEH focus of environmental health, specifically, helping states reduce the burden of lead poisoning in children.

I. Other Requirements

Technical Reporting Requirements

Provide CDC with the original plus two copies of:

1. Quarterly data progress reports. These quarterly reports are required by the Office of Management and Budget (OMB) authorizing legislation (OMB Form 0920-0282.) The reports are due 30 days after the end of each quarter.

2. An interim progress narrative report, due no less than 90 days before the end of the budget period. This progress report will serve as your non-competing continuation application, and must contain the following elements:

a. Progress on Current Budget Period Objectives and Activities.

b. Current Budget Period Financial Progress.

c. New Budget Period Proposed Program Objectives and Activities.

d. Detailed Line-Item Budget and Justification.

3. Calendar-year surveillance data, submitted annually in the approved OMB format, no later than April 30. In addition, a written surveillance summary must be disseminated to state and local public health officials, policy makers, the CDC project officer, and others.

4. Financial Status Reports, due within 90 days of the end of the budget period.

5. Final financial reports and performance reports, due within 90 days after the end of the project period.

6. Projects that involve the collection of information from 10 or more individuals, and are funded by a cooperative agreement will be subject to review by OMB under the Paperwork Reduction Act. Data collection initiated under this cooperative agreement program has been approved by OMB under OMB number 0920-0337, “National Childhood Blood Lead Surveillance System”, Expiration Date: 6/30/2004.

Send all reports to the Grants Management Specialist identified in the “Where to Obtain Additional Information” section of this announcement.

Additional Requirements

The following additional requirements are applicable to this program. For a complete description of each, see Attachment I of the program announcement as posted on the CDC Web site.

AR-9, Paperwork Reduction Act Requirements

AR-10, Smoke-Free Workplace Requirements

AR-11, Healthy People 2010

AR-12, Lobbying Restrictions

AR-21, Small, Minority & Women-Owned Businesses

Executive Order 12372 does not apply to this program.

J. Where To Obtain Additional Information

Two telephone conference calls for application technical assistance will be held during the application period. For further information, please contact Rob Henry at (770) 488-4024. This, and other CDC announcements, necessary applications, and associated forms can be found on the CDC home page Internet address: http://www.cdc.gov. Click on “Funding”, then “Grants and Cooperative Agreements.”

For general questions regarding this announcement, contact: Technical Information Management, CDC Procurement and Grants Office, 2920 Brandywine Road, Room 3000, Atlanta, GA 30341-4146, Telephone: (770) 488-2700.

For business management and budget assistance, contact: Mildred Garner, Grants Management Officer, CDC Procurement and Grants Office, 2920 Brandywine Road, Room 3000, Atlanta, GA 30341-4146, Telephone: (770) 488-2745, E-mail address: mgarner@cdc.gov.

For business management and budget assistance in the territories, contact: Charlotte Flitcraft, Grants Management Officer, CDC Procurement and Grants Office, 2020 Brandywine Rd., Room 3000, Atlanta, GA 30319, Telephone: 770-488-2632, E-mail address: caf5@cdc.gov.

For program technical assistance, contact: Rob Henry, Acting Team Leader, Program Services Section, Lead Poisoning Prevention Branch, Centers for Disease Control and Prevention, 1600 Clifton Rd, NE, MS E-25, Atlanta, GA 30333, Telephone: (770) 488-4024, E-mail address: rhenry@cdc.gov.

Dated: December 31, 2002.
Sandra R. Manning,
CGFM, Director, Procurement and Grants Office, Centers for Disease Control and Prevention.

[FR Doc. 03-1434 Filed 1-22-03; 8:45 am]

BILLING CODE 4163-18-P